DEPARTMENT OF THE INTERIOR

Fish and Wildlife Service

Information Collection To Be Submitted to the Office of Management and Budget (OMB) for Approval Under the Paperwork Reduction Act; Federal Fish and Wildlife Permit Application; Native Endangered and Threatened Species

AGENCY: Fish and Wildlife Service, Interior.

ACTION: Notice; request for comments.

SUMMARY: The U.S. Fish and Wildlife Service will submit a request for approval of a collection of information to OMB under the provisions of the Paperwork Reduction Act. A description of the information collection requirement is included in this notice. If you wish to obtain copies of the proposed information collection requirement, related forms, or explanatory material, contact the Service Information Collection Clearance Officer at the address listed below.

DATES: You must submit comments on or before June 8, 2004.

ADDRESSES: Send your comments on the information collection requirement via mail to the Information Collection Clearance Officer, U.S. Fish and Wildlife Service, 4401 North Fairfax Drive, Mail Stop 222-ARLSQ, Arlington, Virginia 22203; or via fax at (703) 358-2269; or via e-mail at Anissa_Craghead@fws.gov.

FOR FURTHER INFORMATION CONTACT: To request a copy of the proposed information collection requirement, related forms, or explanatory material, contact Anissa Craghead, Information Collection Clearance Officer, by telephone at (703) 358-2445 or by e-mail at Anissa_Craghead@fws.gov. You may also contact Mary Klee, Endangered Species Program, by telephone at (703) 358-2061 or by e-mail at Mary_Klee@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). The U.S. Fish and Wildlife Service (Service or we) plans to submit a request to OMB to renew its existing approval of the collection of information for Native Threatened and Endangered Species Permit Applications, which expires on July 31, 2004. We are requesting a 3-year term of approval for this information collection activity.

Federal agencies may not conduct or sponsor, and a person is not required to respond to, a collection of information unless it displays a currently valid OMB control number. The OMB control number for this collection of information is 1018-0094.

Under the Endangered Species Act (ESA), it is unlawful to import or export; deliver, receive, carry, transport, or ship in interstate or foreign commerce in the course of a commercial activity; sell or offer for sale in interstate or foreign commerce; take (includes harm, harass, pursue, hunt, shoot, wound, kill, trap, capture, or collect any wildlife within the United States); take on the high seas; possess, ship, deliver, carry, transport, sell, or receive unlawfully taken wildlife; remove and reduce to possession any plant from areas under Federal jurisdiction; maliciously damage or destroy an endangered plant on areas under Federal jurisdiction; and remove, cut, dig up, or damage or destroy any endangered plant in knowing violation of any State law or regulation or in the course of a violation of a State criminal trespass law. These prohibitions apply equally to live or dead animals or plants, their progeny (seeds in the case of plants), and parts or products derived from them.

The ESA provides a number of exceptions to these prohibitions, including the prohibition against “take” of listed species. Regulations have been promulgated at 50 CFR 17.22 (endangered wildlife species), 17.32 (threatened wildlife species), 17.62 (endangered plant species), and 17.72 (threatened plant species) to guide implementation of these exceptions through permitting programs.

The information collection requirement in this submission implements the regulatory requirements of the Endangered Species Act (16 U.S.C. 1539), the Migratory Bird Treaty Act (16 U.S.C. 704), the Lacey Act (18 U.S.C. 42-44), the Bald Eagle Protection Act (16 U.S.C. 668), and the Marine Mammal Protection Act (16 U.S.C. 1374) contained in Service regulations in chapter I, subchapter B of title 50 of the Code of Federal Regulations (CFR).

This entire information collection is titled, “Federal Fish and Wildlife Permit Application; Native Endangered and Threatened Species.” These permit applications are used to collect information on prohibited activities that may impact native endangered and threatened species. The information supplied on the application form and the attachments will be used to review the application and allow the Service to make decisions, according to criteria established in various Federal wildlife conservation statutes and regulations on the issuance, suspension, revocation, or denial of permits. The obligation to provide the information is “required to obtain a benefit” (i.e., to obtain an exception to the prohibited activities). An agency may not conduct or sponsor a collection of information unless the collection of information (i.e., the permit application form) displays a currently valid OMB control number. We have revised the following information collection requirement, and they are included in this submission:

1. Title of Form: Enhancement of Survival Permits associated with Safe Harbor Agreements, and Candidate Conservation Agreements with Assurances.

Approval Number: 1018-0094.

Service Form Number: 3-200-54.

Frequency of Collection: Annually.

Description of Respondents: Individuals, households, businesses, State agencies, private organizations.

Total Annual Burden Hours: The reporting burden is estimated to average 3 hours per respondent for the application and 8 hours per respondent for the annual report of permitted activities. The Total Annual Burden hours are 66 hours for the application and 424 hours for the annual report on the permitted activities.

Total Annual Responses: The total number of annual responses is estimated to be 22 for the application and 53 for the annual report of the permitted activities.

Background Explanation: Service form number 3-200-54 addresses application and reporting requirements for Enhancement of Survival permits associated with Safe Harbor Agreements and Candidate Conservation Agreements with Assurances under section 10(a)(1)(A) of the ESA. The permittee is required to notify the Service of any transfer of lands subject to the Safe Harbor Agreement so that any landowners may be offered the opportunity to continue the actions which the original landowner agreed to, and thus he or she may be offered the same regulatory assurances. A major incentive for landowner participation in the Safe Harbor program is the long-term certainty the program provides, including the certainty that the take authorization will stay with the land when it changes hands. The Service also requires the permittee/landowner to notify the Service as far in advance as possible when he or she expects to “take” any species covered under the permit and provide the Service with an opportunity to translocate affected individual specimens, if possible and appropriate.

2. Title of Form: Permits for Scientific Purposes, Enhancement of Propagation or Survival (i.e., Recovery) and Interstate Commerce.

Approval Number: 1018-0094.

Service Form Number: 3-200-55.

Frequency of Collection: Annually.

Description of Respondents: Individuals, scientific and research institutions.

Total Annual Burden Hours: The reporting burden is estimated to average 4 hours per respondent for the application and 8 hours per respondent for the annual report on the permitted activities. The Total Annual Burden hours are 3,280 hours for the application and 11,680 hours for the annual report on the permitted activities.

Total Annual Responses: The total number of annual responses is estimated to be 820 for the application and 1,460 for the annual report of the permitted activities.

Background Explanation: Form number 3-200-55 addresses application and reporting information requirements for Recovery and Interstate Commerce permits under section 10(a)(1)(A) of the ESA. Recovery permits allow “take” of listed species as part of scientific research and management actions, enhancement of propagation or survival, zoological exhibition, educational purposes, or special purposes consistent with the ESA designed to benefit the species involved. Interstate Commerce permits allow transport and sale of listed species across State lines as part of breeding programs enhancing the survival of the species. Detailed descriptions of the proposed taking, its necessities for success of the proposed action, and benefits to the species resulting from the proposed action are required under the implementing regulations cited above. Take authorized under this permit program would otherwise be prohibited by the ESA.

3. Title of Form: Incidental Take Permits Associated With a Habitat Conservation Plan.

Approval Number: 1018-0094.

Service Form Number: 3-200-56.

Frequency of Collection: Annually.

Description of Respondents: Individuals, households, businesses, local and State agencies.

Total Annual Burden Hours: The reporting burden is estimated to average 3 hours per respondent for the application and 20 hours per respondent for the annual report on the permitted activities. The Total Annual Burden hours are 288 hours for the application and 4,020 hours for the annual report on the permitted activities.

Total Annual Responses: The total number of annual responses is estimated to be 96 for the application and 201 for the annual report of the permitted activities.

Background Explanation: Form number 3-200-56 addresses application and reporting requirements for Incidental Take Permits under section 10(a)(1)(B) of the ESA. These permits allow “take” of listed species that is incidental to otherwise lawful non-Federal actions. Take authorized under this permit program would otherwise be prohibited by the ESA.

We invite comments concerning this renewal on: (1) Whether the collection of information is necessary for the proper performance of our endangered and threatened species management functions, including whether the information will have practical utility; (2) the accuracy of our estimate of the burden of the collection of information; (3) ways to enhance the quality, utility, and clarity of the information to be collected; and (4) ways to minimize the burden of the collection of information on respondents. The information collections in this program are part of a system of records covered by the Privacy Act (5 U.S.C. 552(a)).

Dated: March 30, 2004.
Anissa Craghead,
Information Collection Clearance Officer.

[FR Doc. 04-8063 Filed 4-8-04; 8:45 am]

BILLING CODE 4310-55-P